DEPARTMENT OF THE TREASURY

Internal Revenue Service

ETAAC Notice of Public Meeting: Correction

AGENCY: Internal Revenue Service (IRS), Treasury.

ACTION: Correction notice.

SUMMARY: This document contains a correction to a meeting announcement for a Public Meeting of the Electronic Tax Administration Advisory Committee (ETAAC). The meeting will be held Thursday, November 14, at 12:30. The prior notice, that was published in the Federal Register was published on October 24, 2024, incorrectly stated November 14 was a Wednesday.

FOR FURTHER INFORMATION CONTACT: Alec S. Johnston at 202-307-4299 (not a toll-free number).

SUPPLEMENTARY INFORMATION:

Background

ETAAC is a federal advisory committee operating pursuant to the Federal Advisory Committee Act (FACA). As a FACA Committee, the ETAAC is required to hold public meetings to inform the public of the committee's activities. This notice is an announcement of one of the committee's public meetings.

Correction of Publication

Accordingly, FR Doc. 2024-24718, Notice of Meeting of the ETAAC, appearing on page 85009 in the Federal Register on Thursday, October 24, 2024, is corrected to reflect the correct meeting day to be “Thursday, November 14, at 12:30 p.m. EDT” and not “Wednesday, November 14, at 12:30 p.m. EDT”.

Dated: October 25, 2024.
John A. Lipold,
Designated Federal Official, Office of National Public Liaison, Internal Revenue Service.

[FR Doc. 2024-25270 Filed 10-30-24; 8:45 am]

BILLING CODE P